DEPARTMENT OF THE TREASURY

Internal Revenue Service

Taxpayer Advocacy Panel; Meeting Cancellation.

AGENCY: Internal Revenue Service (IRS), Treasury.

ACTION: Notice of meeting cancellation.

SUMMARY: Notice is hereby given of the cancellation of the open meeting of the Taxpayer Advocacy Panel Taxpayer Communications Project Committee scheduled for Thursday, December 19, 2013, at 2:00 p.m. Eastern Time via teleconference, which was originally published in the Federal Register on November 21, 2013, (Volume 78, Number 225, Page 69940).

The meeting is cancelled pending appointment of new members for the Panel.

FOR FURTHER INFORMATION CONTACT: Ellen Smiley or Patti Robb at 1-888-912-1227 or 414-231-2360.

Dated: December 2, 2013.
Otis Simpson,
Acting Director, Taxpayer Advocacy Panel.

[FR Doc. 2013-29111 Filed 12-5-13; 8:45 am]

BILLING CODE 4830-01-P